DEPARTMENT OF HEALTH AND HUMAN SERVICES

Food and Drug Administration

21 CFR Chapter I

Change of Address; Technical Amendment

AGENCY: Food and Drug Administration, HHS.

ACTION: Final rule; technical amendment.

SUMMARY: The Food and Drug Administration (FDA) is amending its regulations to reflect a change in the address for the Center for Food Safety and Applied Nutrition (CFSAN). This action is editorial in nature and is intended to improve the accuracy of the agency’s regulations.

EFFECTIVE DATE: December 14, 2001.

FOR FURTHER INFORMATION CONTACT: Joyce Strong, Office of Policy, Planning, and Legislation (HF-27), Food and Drug Administration, 5600 Fishers Lane, Rockville, MD 20857, 301-827-7010.

SUPPLEMENTARY INFORMATION: FDA is amending its regulations in 21 CFR parts 1, 5, 10, 70, 71, 73, 80, 100, 101, 102, 106, 107, 108, 109, 110, 130, 161, 165, 170, 172, 173, 175, 176, 177, 178, 180, 181, 184, 189, 190, 211, 701, 1240, and 1250 to reflect a change in the address for CFSAN. The current address listed in the above regulations is 200 C Street, SW., Washington, DC 20204. The new address is 5100 Paint Branch Pkwy., College Park, MD 20740.

Publication of this document constitutes final action on these changes under the Administrative Procedure Act (5 U.S.C. 553). Notice and public procedure are unnecessary because FDA is merely correcting nonsubstantive errors.

Therefore, under the Federal Food, Drug, and Cosmetic Act and under authority delegated to the Commissioner of Food and Drugs, 21 CFR chapter I is amended as follows:

1. Parts 1, 5, 10, 70, 71, 73, 80, 100, 101, 102, 106, 107, 108, 109, 110, 130, 161, 165, 170, 172, 173, 175, 176, 177, 178, 180, 181, 184, 189, 190, 211, 701, 1240, and 1250 are amended by removing “200 C Street, SW., Washington, DC 20204” or “200 C St. SW., Washington, DC 20204” wherever they appear and by adding in their place “5100 Paint Branch Pkwy., College Park, MD 20740.”

Dated: October 31, 2001.
Margaret M. Dotzel,
Associate Commissioner for Policy.

[FR Doc. 01-27811 Filed 11-5-01; 8:45 am]

BILLING CODE 4160-01-S